DEPARTMENT OF HEALTH AND HUMAN SERVICES

National Institutes of Health

Statement of Delegation of Authority

Notice is hereby given that I have delegated to the Director, National Institutes of Health (NIH), the authorities vested in the Secretary of Health and Human Services under Section 2 of the Accelerating Access to Critical Therapies for ALS Act (Pub. L. 117-79), as amended, to award grants to participating entities for purposes of scientific research utilizing data from expanded access to investigational drugs for individuals who are not otherwise eligible for clinical trials for the prevention, diagnosis, mitigation, treatment, or cure of amyotrophic lateral sclerosis.

These authorities may be redelegated. Exercise of this authority shall be in accordance with established policies, procedures, guidelines, and regulations as prescribed by the Secretary. The Secretary retains the authority to submit reports to Congress and promulgate regulations.

This delegation is effective immediately. I hereby affirm and ratify any actions taken by you or your subordinates that involved the exercise of the authorities delegated herein prior to the effective date of the delegation.

Xavier Becerra,
Secretary.

[FR Doc. 2022-09776 Filed 5-5-22; 8:45 am]

BILLING CODE 4140-01-P